DEPARTMENT OF JUSTICE

Office of Community Oriented Policing Services; FY 2000 Community Policing Discretionary Grants

AGENCY: Office of Community Oriented Policing Services, Department of Justice.

ACTION: Notice of availability.

SUMMARY: The Department of Justice, Office of Community Oriented Policing Services (“COPS”) announces a new grant program, COPS in Schools, designed to combat school violence by helping local law enforcement agencies hire additional community policing officers to work in schools. This program provides an incentive for law enforcement agencies to build working relationships with schools and to use community policing efforts to combat school violence. The COPS in Schools program will help reduce the local match requirement for local law enforcement agencies seeking to hire additional new officers to be used in or around schools.

DATES: The application deadline for CIS is June 16, 2000. Applications must be postmarked by this date to be considered for funding. Due to limited funding, applications that are not funded this Fiscal Year will be carried over for consideration in Fiscal year 2001 (subject the availability of Fiscal Year 2001 funding). If your agency already was awarded a FAST, AHEAD or UHP grant, you may request additional officers at any time. Note on your application if you are requesting officers that will be assigned to primary or secondary schools.

ADDRESSES: To obtain a copy of an application or for more information, please call the U.S. Department of Justice Response Center at 1-800-421-6770 or (202) 307-1480, or visit the COPS web site at http://www.usdoj.gov/cops/.

Departments that have a pending application under the Universal Hiring Program that are interested in redirecting that request to the COPS in Schools initiative should contact their grant advisor at 1-800-421-6770.

FOR FURTHER INFORMATION CONTACT: The U.S. Department of Justice Response Center, (202) 307-1480 or 1-800-421-6770. The CIS application and information on the COPS Office are also available on the Internet via the COPS web site at: http://www.usdoj.gov/cops/.

FOR FURTHER INFORMATION CONTACT: The U.S. Department of Justice Response Center, (202) 307-1480 or 1-800-421-6770 or your grant advisor.

SUPPLEMENTARY INFORMATION:

Overview

The Violent Crime Control and Law Enforcement Act of 1994 (Pub. L. 103-322) authorizes the Department of Justice to make grants to increase deployment of law enforcement officers devoted to community policing on the streets and rural routes in this nation. The COPS in Schools program is specifically designed to combat school violence.

Many communities are discovering that trained, sworn Law enforcement officers assigned to schools make a difference. The presence of these officers provides schools with on-site security and a direct link to local law enforcement agencies.

Community policing officers typically perform a variety of functions within the school including teaching crime prevention and substance-abuse classes, monitoring troubled students, and building respect for law enforcement among students. School Resource Officers combine the functions of law enforcement and education.

The COPS in Schools initiative provides an incentive for law enforcement agencies to build working relationships with schools to use community policing efforts to combat school violence.

The COPS in Schools initiative reduces the local match requirement for law enforcement agencies seeking to hire additional officers in and around schools.

Grants will be awarded to provide for a designated portion of the salary and benefits of each new officer over three years. The maximum grant amount is $125,000 per officer; any remainder is paid with state or local funds. To qualify for funding, officers must be hired on or after the grant award start date. Funding begins when new officers are hired or on the award date (whichever is later). Funds are distributed over the course of the grant.

COPS grants must not replace funds that eligible agencies otherwise would have devoted to hire officers in the absence of the COPS funding. In other words, any hiring under the COPS in Schools program must be in addition to, not in lieu of, officers that otherwise would have been hired or currently employed officers. Grant recipients must develop a written plan to retain their COPS-funded officer positions with State of local funding after Federal funding ends. This plan must be submitted with the application.

To be eligible to receive funding under this grant program, applicants must be eligible to receive funding under the current guidelines established for the Universal Hiring Program (UHP). UHP guidelines are available from the U.S. Department of Justice Response Center (1-800-421-6770). Applicants must also provide assurance that the officers employed under this program will be assigned to work in primary or secondary schools and must enter into a partnership agreement with either a specific school official or with an official with general educational oversight authority in that jurisdiction. All applicants must also submit a memorandum of understanding (MOU). The MOU, which must be signed by both the Law Enforcement Executive and the School Official with general educational oversight, is an agreement between the parties involved whose purpose is to define the roles and responsibilities of the individuals and partners involved.

In addition to these general program requirements, agencies seeking funding under this program will be asked to provide supporting documentation in the following areas: problem identification and justification, community policing strategies to be used by the officers, quality and level of commitment to the effort, and the link to community policing.

All COPS in Schools awards will contain an “Additional Grant Condition” that must be signed and returned to the COPS Office. This condition requires the funded officer(s) and a school administrator to attend a COPS in Schools Training. Costs for training, per diem, travel, and lodging for attendance of required participants will be reimbursed by the COPS Office up to a maximum of $1100.

An award under the COPS in Schools grant program will not affect the eligibility of an agency to receive awards under any other COPS program.

(The Catalog of Federal Domestic Assistance (CFDA) reference for this program is 16.710.)

Dated: April 21, 2000.
Thomas Frazier,
Director.

[FR Doc. 00-11368 Filed 5-5-00; 8:45 am]

BILLING CODE 4410-AT-M